DEPARTMENT OF ENERGY

Federal Energy Regulatory Commission

[Docket No. CP17-22-000]

Kinder Morgan Louisiana Pipeline, LLC; Notice of Schedule for Environmental Review of the Sabine Pass Expansion Project

On December 13, 2016, Kinder Morgan Louisiana Pipeline, LLC (Kinder Morgan) filed an application in Docket No. CP17-22-000 requesting a Certificate of Public Convenience and Necessity pursuant to Section 7(b) and 7(c) of the Natural Gas Act to construct and operate certain natural gas pipeline facilities. The proposed project is known as the Sabine Pass Expansion Project (Project), and would allow Kinder Morgan to provide firm incremental transportation service of up to 600 million cubic feet per day of natural gas to the existing Sabine Pass Liquefaction Facility, that is currently under expansion in Cameron Parish, Louisiana.

On December 21, 2016 the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA: July 28, 2017.

90-day Federal Authorization Decision Deadline: October 26, 2017.

If a schedule change becomes necessary, additional notice will be provided so that the relevant agencies are kept informed of the Project's progress.

Project Description

Kinder Morgan proposes to construct and operate the Sabine Pass Expansion Project in Louisiana which consists of the following: (1) Modifications to four existing meter stations (Columbia Gulf Transmission, LLC; Texas Gas Transmission, LLC; ANR Pipeline Company; and Pine Prairie Energy Center) in Evangeline and Acadia Parishes; (2) construction of one new 36-inch-diameter delivery interconnect consisting of a 36-inch-diameter tap and appurtenances and 1,200 feet of 36-inch-diameter lateral at the Sabine Pass Liquefaction Facility in Cameron Parish; (3) installation of three additional 15,900 horsepower compressor units at Kinder Morgan's previously approved Compressor Station 760 in Acadia Parish; ¹ (4) construction of 6,400 feet of 36-inch-diameter and 700 feet of 24-inch-diameter header pipelines in Acadia Parish; and (5) replacement of a meter and increase in capacity from 200 to 650 million cubic feet per day at the existing Pine Prairie Meter Station in Acadia Parish. The proposed facilities would provide north-to-south transportation on Kinder Morgan's system.

¹ The compressor station has not yet been constructed, but was approved by Commission Order dated April 15, 2016 as part of the Lake Charles Expansion Project in Docket No. CP14-511-000.

Kinder Morgan proposes to begin construction of the Project by April 2018 and to place the facilities in service by April 1, 2019.

Background

On January 24, 2017, the Commission issued a Notice of Intent to Prepare an Environmental Assessment for the Proposed Sabine Pass Expansion Project and Request for Comments on Environmental Issues (NOI). The NOI was sent to affected landowners; federal, state, and local government agencies; elected officials; Native American tribes; other interested parties; and local libraries and newspapers. In response to the NOI, the Commission received a comment from a stakeholder stating the U.S. Army Corps of Engineers permits and authorizations that would be necessary for the various Project components. The Commission also received a comment letter from the Louisiana Department of Wildlife and Fisheries stating the Project would have minimal or no long-term adverse impacts on wetland functions and a comment from the Choctaw Nation of Oklahoma requesting to receive a copy of the EA and the cultural resources survey.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the eLibrary link, select General Search from the eLibrary menu, enter the selected date range and Docket Number excluding the last three digits (i.e., CP17-22), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: June 8, 2017.
Kimberly D. Bose,
Secretary.

[FR Doc. 2017-12677 Filed 6-16-17; 8:45 am]

BILLING CODE 6717-01-P